NUCLEAR REGULATORY COMMISSION

[Docket No. 52-011-ESP]

Establishment of Atomic Safety and Licensing Board; ASLBP No. 07-850-01-ESP-BD01

Pursuant to delegation by the Commission dated December 29, 1972, published in the Federal Register, 37 FR 28,710 (1972), and the Commission's regulations, see 10 CFR 2.104, 2.300, 2.303, 2.309, 2.311, 2.318, and 2.321, an Atomic Safety and Licensing Board is being established to preside over the following proceeding: Southern Nuclear Operating Company (Early Site Permit For Vogtle Esp Site).

This Board is being established pursuant to an October 5, 2006 Notice of Hearing and Opportunity to Petition for Leave to Intervene published in the Federal Register (71 FR 60,195 (Oct. 12, 2006)). The hearing will consider the August 14, 2006 application, as supplemented, of Southern Nuclear Operating Company (SNC) pursuant to 10 CFR Part 52 for an early site permit (ESP) for the Vogtle ESP site in eastern Georgia, as well as the December 11, 2006 petition to intervene submitted by the Petitioners Center for a Sustainable Coast, Savannah Riverkeeper, Southern Alliance for Clean Energy, Atlanta Women's Action for New Directions, and Blue Ridge Environmental Defense League challenging the ESP application.

The Board is comprised of the following administrative judges:

G. Paul Bollwerk, III, Chair, Atomic Safety and Licensing Board Panel, U.S. Nuclear Regulatory Commission, Washington, DC 20555-0001.

Dr. Nicholas G. Trikouros, Atomic Safety and Licensing Board Panel, U.S. Nuclear Regulatory Commission, Washington, DC 20555-0001.

Dr. James Jackson, Atomic Safety and Licensing Board Panel, U.S. Nuclear Regulatory Commission, Washington, DC 20555-0001.

All correspondence, documents, and other materials shall be filed with the administrative judges in accordance with 10 CFR 2.302.

This proceeding will serve as a pilot for extending the use of the Commission's existing high-level waste repository-related Electronic Submittal System to Commission licensing and enforcement cases generally. An order is being issued contemporaneously with this Licensing Board establishment notice establishing procedures in this proceeding for submitting documents using the Electronic Submittal System.

Issued at Rockville, Maryland, this 15th day of December 2006.
E. Roy Hawkens,
Chief Administrative Judge, Atomic Safety and Licensing Board Panel.

[FR Doc. E6-21936 Filed 12-21-06; 8:45 am]

BILLING CODE 7590-01-P